DEPARTMENT OF ENERGY

Federal Energy Regulatory Commission

Notice of Commission Staff Attendance

The Federal Energy Regulatory Commission hereby gives notice that members of the Commission's staff may attend the following meetings related to the transmission planning activities of the Southwest Power Pool, Inc. (SPP):

Seams FERC Order 1000 Task Force meetings:

October 12, 2012

10:00 a.m.-12:00 p.m. CDT.

October 18, 2012,

10:00 a.m.-12:00 p.m. CDT.

The above-referenced meetings will be held via teleconference.

The above-referenced meetings are open to stakeholders.

Further information may be found at www.spp.org.

The discussions at the meetings described above may address matters at issue in the following proceedings:

Docket No. ER06-451, Southwest Power Pool, Inc.

Docket No. ER08-1419, Southwest Power Pool, Inc.

Docket No. ER09-659, Southwest Power Pool, Inc.

Docket No. ER11-4105, Southwest Power Pool, Inc.

Docket No. ER12-140, Southwest Power Pool, Inc.

Docket No. ER12-550, Southwest Power Pool, Inc.

Docket No. ER12-891, Southwest Power Pool, Inc.

Docket No. ER12-909, Southwest Power Pool, Inc.

Docket No. ER12-959, Southwester Power Pool, Inc.

Docket No. ER12-1017, Southwest Power Pool, Inc.

Docket No. ER12-1018, Southwest Power Pool, Inc.

Docket No. ER12-1179, Southwest Power Pool, Inc.

Docket No. ER12-1401, Southwest Power Pool, Inc.

Docket No. ER12-1402, Southwest Power Pool, Inc.

Docket No. ER12-1586, Southwest Power Pool, Inc.

Docket No. ER12-1772, Southwest Power Pool, Inc.

Docket No. ER12-1779, Southwest Power Pool, Inc.

Docket No. ER12-1849, Southwest Power Pool, Inc.

Docket No. ER12-1854, Southwest Power Pool, Inc.

Docket No. ER12-1974, Southwest Power Pool, Inc.

Docket No. ER12-2054, Southwest Power Pool, Inc.

Docket No. ER12-2064, Southwest Power Pool, Inc.

Docket No. ER12-2090, Southwest Power Pool, Inc.

Docket No. ER12-2091, Southwest Power Pool, Inc.

Docket No. ER12-2292, Southwest Power Pool, Inc.

Docket No. ER12-2366, Southwest Power Pool, Inc.

Docket No. ER12-2387, Southwest Power Pool, Inc.

Docket No. ER12-2505, Southwest Power Pool, Inc.

Docket No. ER12-2507, Southwest Power Pool, Inc.

Docket No. ER12-2525, Southwest Power Pool, Inc.

Docket No. ER12-2562, Southwest Power Pool, Inc.

Docket No. ER12-2648, Southwest Power Pool, Inc.

Docket No. EL12-2, Southwest Power Pool, Inc.

Docket No. EL12-47, Southwest Power Pool, Inc.

Docket No. EL12-51, Southwest Power Pool, Inc.

Docket No. EL12-60, Southwest Power Pool, Inc., et al.

Docket No. ER12-1813, The Empire District Electric Co.

Docket No. ER12-1071, Entergy Arkansas, Inc.

Docket No. EL12-59, Golden Spread Electric Cooperative, Inc.

Docket No. ER09-548, ITC Great Plains, LLC

Docket No. ER12-1826, Kansas City Power & Light Co.

Docket No. ER12-1828, KCP&L Greater Missouri Operations Co.

Docket No. ER11-3728, Midwest Independent Transmission System Operator, Inc.

Docket No. ER12-480, Midwest Independent Transmission System Operator, Inc.

Docket No. ER12-1577, Midwest Independent Transmission System Operator, Inc.

Docket No. EL11-34, Midwest Independent Transmission System Operator, Inc.

Docket No. ER09-36, Prairie Wind Transmission, LLC

Docket No. ER12-1537, Public Service Co. of Oklahoma

Docket No. ER12-1538, Southwestern Electric Power Co.

Docket No. ER12-1970, Southwestern Electric Power Co.

Docket No. ER09-35, Tallgrass Transmission, LLC

Docket No. EL12-28, Xcel Energy Services Inc., et al.

For more information, contact Luciano Lima, Office of Energy Markets Regulation, Federal Energy Regulatory Commission at (202) 502-6210 or luciano.lima@ferc.gov.

Dated: October 9, 2012.
Kimberly D. Bose,
Secretary.

[FR Doc. 2012-25390 Filed 10-15-12; 8:45 am]

BILLING CODE 6717-01-P